DEPARTMENT OF HEALTH AND HUMAN SERVICES

Administration for Children and Families

Office of Planning, Research and Evaluation Advisory Committee on Head Start Research and Evaluation

AGENCY: Administration for Children and Families, Department of Health and Human Services (HHS).

ACTION: Notice.

SUMMARY: This notice announces the re-establishment of the Advisory Committee on Head Start Research and Evaluation. The Secretary is required by section 649(g)(1) of Public Law 92-463 to convene an expert committee to review and make recommendations on the design of the study or studies that provide national analysis of the impact of Head Start programs. This committee will also advise on the progress of the study, and comment, if so desired, on the interim and final study reports of the organization(s) selected for carrying out the independent research.

FOR FURTHER INFORMATION CONTACT: Jennifer Brooks, Office of Planning, Research and Evaluation, e-mail jennifer.brooks@acf.hhs.gov or (202) 205-8212.

SUPPLEMENTARY INFORMATION:

I. Background

The Secretary is required by section 649(g)(1) of Public Law 92-463 to convene an expert advisory committee to review and make recommendations on the design of the study or studies that provide national analysis of the impact of Head Start programs. An Advisory Committee for Head Start Research and Evaluation was first chartered on March 23, 1999 for two years. It was rechartered in November 2001, again in November 2003, and finally on November 4, 2005. The charter expired on November 6, 2007. This notice pertains to the re-establishment of an Advisory Committee for Head Start Research and Evaluation.

The Advisory Committee for Head Start Research and Evaluation will provide feedback on the published final report for the Head Start Impact Study, offering interpretations of the findings, discussing implications for practice and policy, and providing recommendations on follow-up research, including additional analysis of the Head Start Impact Study. The Committee will also be asked to provide recommendations to the Secretary regarding how to improve Head Start and other early childhood programs by enhancing the use of research-informed practices in early childhood. Finally, the Committee will be asked to provide recommendations on the overall Head Start research agenda, including—but not limited to—how the Head Start Impact Study fits within this agenda. The Committee will provide advice regarding future research efforts to inform HHS about how to guide the development and implementation of best practices in Head Start and other early childhood programs around the country.

The Department will give close attention to equitable geographic distribution and to minority and gender representation in making appointments to the Committee, so long as the effectiveness of the Committee is not diminished.

II. Copies of the Charter

To obtain a copy of the Committee's Charter, submit a written request to the above contact.

Carmen R. Nazario,
Assistant Secretary for Children and Families.

[FR Doc. 2010-15177 Filed 6-22-10; 8:45 am]

BILLING CODE 4184-22-P